DEPARTMENT OF ENERGY

Federal Energy Regulatory Commission

[Docket No. ER99-1263-002, et al.]

Portland General Electric Company, et al.; Electric Rate and Corporate Regulation Filings

January 18, 2002.

Take notice that the following filings have been made with the Commission. Any comments should be submitted in accordance with Standard Paragraph E at the end of this notice.

1. Portland General Electric Company

[Docket Nos. ER99-1263-002 ER98-1643-005]

Take notice that on January 15, 2002, Portland General Electric Company (PGE) filed a notice of status change with the Federal Energy Regulatory Commission (Commission) in connection with the pending acquisition of PGE by a newly formed holding company currently identified as Northwest Natural Holding Company.

Copies of the filing were served upon all parties on the official service lists compiled by the Secretary of the Federal Energy Regulatory Commission in these proceedings.

Comment Date: February 5, 2002.

2. PSI Energy, Inc.

[Docket No. ER02-591-001]

Take notice that on January 15, 2002, PSI Energy, Inc. (PSI) submitted for filing the Transmission and Local Facilities Agreement between PSI, Indiana Municipal Power Agency and Wabash Valley Power Association, Inc.

Comment Date: February 5, 2002.

3. American Transmission Company LLC

[Docket No. ER02-772-000]

Take notice that on January 15, 2002, American Transmission Company LLC (ATCLLC) tendered for filing a Generation-Transmission Interconnection Agreement between ATCLLC and Mirant Portage County, LLC.

ATCLLC requests an effective date of January 11, 2002.

Comment Date: February 5, 2002.

4. American Transmission Company LLC

[Docket No. ER02-773-000]

Take notice that on January 15, 2002, American Transmission Company LLC (ATCLLC) tendered for filing an executed Generation-Transmission Interconnection Agreement between ATCLLC and Manitowoc Public Utilities.

ATCLLC requests an effective date of June 25, 2001.

Comment Date: February 5, 2002.

5. American Transmission Company, L.L.C.

[Docket No. ER02-774-000]

Take notice that on January 15, 2002, American Transmission Company LLC (ATCLLC) tendered for filing a Generation-Transmission Interconnection Agreement between ATCLLC and Mirant Neenah, LLC.

ATCLLC requests an effective date of January 14, 2002.

Comment Date: February 5, 2002.

6. Florida Power & Light Company

[Docket No. ER02-782-000]

Take notice that on January 16, 2002, Florida Power & Light Company (FPL) filed, pursuant to Section 205 of the Federal Power Act, an executed Interconnection & Operation Agreement between FPL and CPV Gulfcoast, Ltd.

Comment Date: February 6, 2002.

7. EPCOR Merchant and Capital (US) Inc.

[Docket No. ER02-783-000]

Take notice that on January 15, 2002, EPCOR Merchant and Capital (US) Inc. tendered for filing an application for authorization to sell energy, capacity and ancillary services at market-based rates pursuant to section 205 of the Federal Power Act.

Comment Date: February 5, 2002.

8. Virginia Electric and Power Company

[Docket No. ER02-784-000]

Take notice that on January 15, 2002, Virginia Electric and Power Company, tendered for filing under the provisions of 205 of the Federal Power Act (FPA) a Wholesale Cost-Based Rate Tariff (Tariff) providing for sales of capacity, energy and resale of transmission rights, together with a pro-forma service agreement under that Tariff. Dominion Virginia Power asks that the proposed Tariff be made effective January 16, 2002, the day after it is filed.

Copies of the filing were served upon the Virginia State Corporation Commission and the North Carolina Utilities Commission.

Comment Date: February 5, 2002.

9. Wisconsin Electric Power Company

[Docket No. ER02-785-000]

Take notice that on January 15, 2002, Wisconsin Electric Power Company (Wisconsin Electric) tendered for filing the 2001 inputs to the formula rates in Exhibit No. 4 of two Generation-Transmission Must Run Agreements with American Transmission Company, LLC (ATLLLC). The inputs are reflected in an updated Exhibit No. 4.4 for Wisconsin Electric's Oak Creek Power Plant and the Presque Isle Power Plant and Upper Peninsula of Michigan Hydroelectric Plants. By the terms of the Must Run Agreements, the inputs to the formula rate took effect on January 1, 2002.

Wisconsin Electric requests that the updates to Exhibit Nos. 4.4 of the Must Run Agreements be made effective on January 1, 2002.

Comment Date: February 5, 2002.

10. AmerGen Energy Company, LLC

[Docket No. ER02-786-000]

Take notice that on January 15, 2002, AmerGen Energy Company, LLC, tendered for filing a service agreement under its market-based rate wholesale power sales tariff under which it will make sales of energy and capacity to Exelon Generation Company, LLC.

Comment Date: February 5, 2002.

11. Desert Power, L.P.

[Docket No. ER02-789-000]

Take notice that on January 14, 2002, Desert Power, L.P. and Enron Power Marketing tender for filing a Service Agreement.

Comment Date: February 4, 2002.

12. Hot Spring Power Company, LLC

[Docket No. EG02-68-000]

Take notice that on January 15, 2002, Hot Spring Power Company, LLC (Applicant), having its principal place of business at 1177 West Loop South, Suite 900, Houston, Texas 77027, filed with the Federal Energy Regulatory Commission (Commission) an application for determination of exempt wholesale generator status pursuant to Part 365 of the Commission's regulations.

Applicant will own and operate a 800MW generating facility near the city of Malvern, in Hot Spring County, Arkansas, consisting of two natural gas-fired combined-cycle combustion turbine generator units and a steam turbine generator, having a total nominal output of 800 MW.

Comment Date: February 8, 2002.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1954 Filed 1-25-02; 8:45 am]

BILLING CODE 6717-01-P